DEPARTMENT OF ENERGY

Federal Energy Regulatory Commission

[Project No. 2175-014]

Southern California Edison Company; Notice of Application and Amended Preliminary Draft Environmental Assessment Tendered for Filing With the Commission, and Establishing Procedual Schedule for Licensing and Deadline for Submission of Final Amendments

March 7, 2007.

Take notice that the following hydroelectric application has been filed with the Commission and is available for public inspection.

a. Type of Application: New License for Major Project-Existing Dam.

b. Project No: P-2175-014.

c. Date Filed: February 23, 2007.

d. Applicant: Southern California Edison Company.

e. Name of Project: Big Creek Nos. 1 and 2 Hydroelectric Power Project.

f. Location: In Fresno County, California, and within the Sierra National Forest. The project is situated along Big Creek, a tributary to the San Joaquin River. The project affects 1,877.96 acres of Federal land administered by the Sierra National Forest.

g. Filed Pursuant to: Federal Power Act 16 U.S.C. 791 (a)-825(r).

h. Applicant Contact: Russ W. Krieger, Vice President, Power Production, Southern California Edison Company, 300 North Lone Hill Ave., San Dimas, California 91773. Phone: (909) 394-8667.

i. FERC Contact: Jim Fargo, (202) 502-6095, or e-mail: james.fargo@ferc.gov.

j. Cooperating Agencies: We are asking Federal, State, local, and tribal agencies with jurisdiction and/or special expertise with respect to environmental issues to cooperate with us in the preparation of the environmental document. Agencies who would like to request cooperating status should follow the instructions for filing comments described in item k below. Agencies granted cooperating status will be precluded from being an intervenor in this proceeding consistent with the Commission's regulations.

k. Deadline for requests for cooperating agency status: 60 days from the date of this notice. All documents (original and eight copies) should be filed with: Philis J. Posey, Acting Secretary, Federal Energy Regulatory Commission, 888 First Street, NE., Washington, DC 20426. Comments may be filed electronically via the Internet in lieu of paper; see 18 CFR 385.2001(a)(1)(iii) and the instructions on the Commission's Web site (http://www.ferc.gov) under the “e-Filing” link. After logging into the e-Filing system, select “Comment on Filing” from the Filing Type Selection screen and continue with the filing and process. The Commission strongly encourages electronic filing.

l. Status: This application has not been accepted for filing. We are not soliciting motions to intervene, protests, or final terms and conditions at this time.

m. Description of Project: The existing Big Creek Nos. 1 and 2 Hydroelectric Power Project consists of two powerhouses, four major dams forming one major reservoir, one moderate dam and impoundment, three small diversions, and three water conveyance systems. The project would have an average annual generation of 657,072 megawatt-hours.

• Powerhouses (i) Powerhouse No. 1 with four turbine/generator units and a total dependable operating capacity of about 82.9 MW; and (ii) Powerhouse No. 2, with four turbine/generator units and a total dependable operating capacity of about 67.1 MW.

• Major dams and reservoirs (i) Dams 1, 2, 3, and 3a, which form Huntington Lake, with a capacity of about 89,166 ac-ft, at an elevation of about 6,950 ft above mean sea level (msl).

• Moderate dam (i) Dam 4, which forms Dam 4 Impoundment (Powerhouse 2 Forebay), with a capacity of about 60 ac-ft, at an elevation of about 4,810 ft above msl.

• Small diversions (i) Balsam Creek Diversion, with a usable capacity of less than 1 ac-ft, at an elevation of about 4,880 ft above msl; (ii) Ely Creek Diversion, with a usable capacity of less than 1 ac-ft, at an elevation of about 4,844 ft above msl; and (iii) Adit 8 Diversion, with a usable capacity of less than 1 ac-ft, at an elevation of about 4,825 ft above msl.

• Water conveyance systems (i) Tunnel No. 1, about 2 miles long, conveys water from Huntington Lake through an 84-inch diameter pipe to Big Creek Powerhouse No. 1.; (ii) Tunnel No. 2, approximately 4.1 miles long, conveys water from the Dam 4 impoundment just downstream of Powerhouse 1 to Big Creek Powerhouse No. 2. Water from Ely and Balsam Creek diversions also enter into Tunnel No. 2 between the forebay and powerhouse; and (iii) The Shoo Fly, conveys water from Shaver Lake (FERC Project No. 67) through Tunnel 5 and into Tunnel 2 leading to Powerhouse No. 2. The Shoo fly was used during the construction of Shaver Lake Dam and Powerhouse No. 2A to keep water off the dam and to get more generation from Powerhouse No. 2. Although not currently in use, the Shoo fly Complex gives SCE the flexibility to divert water from Shaver Lake to Powerhouse No. 2, if required.

n. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

o. With this notice, we are initiating consultation with the California State Historic Preservation Officer (SHPO), as required by section 106, National Historic Preservation Act, and the regulations of the Advisory Council on Historic Preservation, 36 CFR 800.4.

p. Procedural schedule and final amendments: The application will be processed according to the following Hydro Licensing Schedule. Revisions to the schedule will be made if the Commission determines it necessary to do so:

Milestone | Tentativedate
Issue Acceptance/Deficiency Letter and request Additional Information, if needed | June 2007.
Notice asking for final terms and conditions | September 2007.
Notice of the availability of the draft EIS | March 2008.
Notice of the availability of the final EIS | September 2008.

Final amendments to the application must be filed with the Commission no later than 30 days from the issuance date of the notice soliciting final terms and conditions.

Philis J. Posey,
Acting Secretary.

[FR Doc. E7-4479 Filed 3-12-07; 8:45 am]

BILLING CODE 6717-01-P